DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Alaska Trawl Groundfish Fishery Rationalization Social Study.

OMB Control Number: None.

Form Number(s): NA.

Type of Request: Regular submission (request for a new information collection).

Number of Respondents: 1,574.

Average Hours per Response: Survey, 1 hour; unstructured interview or meeting, 30 minutes.

Burden Hours: 1,168.

Needs and Uses: This request is for a new information collection.

The North Pacific Fishery Management Council (NPFMC) is currently debating designs of a new rationalization program for the Gulf of Alaska trawl groundfish fishery and is expected to take final action on a new program in late 2014 or early 2015. These types of management programs are known to have extensive beneficial outcomes for fish stocks. Literature shows that there are mixed outcomes for the people participating in the fishery. Fishery participants may suffer negative social impacts. Sufficient non-economic social science data will be collected to describe the fishery prior to the management change, to collect baseline data. This information will be used to inform the program design and compared to a data collection post rationalization in order to detect any changes in the system as a result of the management change. With the pre- and post-rationalization data, social impacts may be measured. The collection of this data will provide fisheries managers with social science data which is typically unavailable or available in limited quality. This research aims to collect extensive data about the people in the fishery for the maximum benefit to all parties, including fisheries.

Affected Public: Individuals or households; business or other for-profit organizations.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: November 14, 2013.
Gwellnar Banks,
Management Analyst, Office of the Chief Information Officer.

[FR Doc. 2013-27765 Filed 11-19-13; 8:45 am]

BILLING CODE 3510-22-P